DEPARTMENT OF DEFENSE

Corps of Engineers

Intent To Prepare a Joint Feasibility Study/Environmental Impact Statement/Environmental Impact Report for the Los Angeles River Ecosystem Restoration Feasibility Study, Los Angeles County, CA

AGENCY: Department of the Army, U.S. Army Corps of Engineers, DoD.

ACTION: Amendment to notice of intent/notice of preparation.

SUMMARY: The U.S. Army Corps of Engineers, Los Angeles District (Corps), and the City of Los Angeles amend the notice published in the Federal Register on February 6, 2006 (71 FR 6058), which announced the Corps' intent to prepare a Programmatic Draft Environmental Impact Statement/Environmental Impact Report for the Los Angeles River Ecosystem Restoration Study, Los Angeles County, CA. This amendment to the notice revises the February 6, 2006 notice to announce the Corps' intent to prepare a joint Feasibility Study/Environmental Impact Statement/Environmental Impact Report (FS/EIS/EIR) for the Los Angeles River Ecosystem Restoration Feasibility Study that will identify and evaluate site specific opportunities for ecosystem restoration. The study proposes to consider a range of activities to restore riparian and aquatic habitat, and related habitat functions, in and adjacent to the Los Angeles River, which will benefit wildlife and sensitive species.

DATES: Submit comments on or before December 29, 2008.

ADDRESSES: Ms. Tiffany Bostwick, Environmental Coordinator, U.S. Army Corps of Engineers, Los Angeles District, Planning Division, CESPL-PD-RN, 915 Wilshire Boulevard, Los Angeles, CA 90017.

FOR FURTHER INFORMATION CONTACT: Tiffany Bostwick, Environmental Coordinator, (213) 452-3845, or e-mail at Tiffany.R.Kayama@usace.army.mil.

SUPPLEMENTARY INFORMATION: 1. Authorization. The proposed feasibility study was authorized under Congressional Resolution, which reads as follows:

Senate Resolution, approved 25 June 1969, reading in part: “Resolved by the Committee on Public Works of the United States Senate, that the Board of Engineers for Rivers and Harbors, created under Section 3 of the River and Harbor Act, approved June 13, 1902, be, and is hereby requested to review the report of the Chief of Engineers on the Los Angeles and San Gabriel Rivers and Ballona Creek, California, published as House Document Numbered 838, Seventy-sixth Congress, and other pertinent reports, with a view to determining whether any modifications contained herein are advisable at the present time, in the resources in the Los Angeles County Drainage Area.”

2. Background. Historically, the Los Angeles River is subject to flooding and two of the largest floods in recorded history occurred in the 1930s, causing both a substantial loss of life and property damage. During the latter 1930s and 1940s the Federal Government (U.S. Army Corps of Engineers) constructed the concrete flood control channel in the Los Angeles River to expedite movement of stormwater flows to the ocean for flood prevention, causing a complete loss of the natural hydrologic and hydraulic regime and the natural riparian environment. Development along most of the River is a mix of housing, industrial and commercial land uses that contribute to the overall degradation of the ecosystem. The City of Los Angeles, city residents, and other local agencies have expressed interest and support for a feasibility study that would evaluate the potential for restoration of the Los Angeles River's aquatic ecosystem.

The entire Los Angeles River travels through a highly urbanized area covering a distance of 51 miles beginning at the confluence of Bell Creek and Arroyo Calabasas Creek in the San Fernando Valley community of Canoga Park, located approximately 32 miles northwest of downtown Los Angeles. The River flows through San Fernando Valley and the Los Angeles Basin, in a southeasterly direction until it empties in to the Pacific Ocean in San Pedro.

The general project area includes approximately one-half mile on each side of the 32-mile river corridor that begins at the confluence near Owensmouth Avenue in Canoga Park, and continues downstream to Washington Boulevard, near the northern boundary of the city of Vernon.

The Corps and the City of Los Angeles have prepared and published a Programmatic Environmental Impact Report/Programmatic Environmental Impact Statement (PEIR/PEIS, April 2007) for the Los Angeles River Revitalization Master Plan (LARRMP). The LARRMP is intended to serve as a blueprint for restoring some of the River's ecological functions and toward improving the overall health of the watershed by implementing a variety of projects, including channel modifications, improvements to the River corridor, revitalized riverfront communities in key opportunity areas, recreational amenities such as parks and open space, pedestrian and bicycle trails, bridges, enhanced connector streets, and green space networks in River adjacent neighborhoods. Implementing LARRMP recommendations over the near-term planning period (5 to 20 years) and the long-term period (20 to 50 years) constitutes the proposed action evaluated in the Programmatic EIR/EIS. However, since the PEIR/PEIS did not evaluate site specific ecosystem restoration opportunities, it will not serve as a decision document for the Corps (i.e., result in a project action).

Although components of the LARRMP include opportunities for restoring a more natural riverine environment along the Los Angeles River, the FS/EIS/EIR to be prepared for the Corps' Los Angeles River Ecosystem Restoration Feasibility Study will provide the necessary site specific evaluations and detailed analysis for ecosystem restoration, including various alternatives for restoration of riparian and aquatic habitats and functions, and increased habitat values. The FS/EIS/EIR will also consider the goals and objectives identified in the LARRMP and where they might meet the requirements of the Corps of Engineers Federal planning guidance for ecosystem restoration. The Corps is the Lead Agency for compliance with the National Environmental Policy Act (NEPA) for the project, and the City of Los Angeles is the Lead Agency for compliance with the California Environmental Quality Act (CEQA).

The purpose of the Los Angeles River Ecosystem Restoration Feasibility Study is to consider opportunities for ecosystem restoration along 32 miles of the river within the City of Los Angeles, from the Canoga Park area of the northwest San Fernando Valley, to the southwestern quadrant of Los Angeles, near the border with the City of Vernon. The Project will identify opportunities to: (1) Evaluate and assess the problems and needs associated with loss of riparian habitat; (2) formulate alternative measures for environmental restoration, develop viable alternatives, and identify the National Ecosystem Restoration (NER) Plan, which will provide maximum ecosystem benefits; and (3) identify opportunities for Corps involvement in restoring the functions and values of the River's ecosystem. Secondary benefits would include associated recreational, water quality, and community revitalization opportunities.

3. Proposed Objectives. The following planning objectives were identified to direct formulation and evaluation of alternative plans that implemented within and/or adjacent to the Los Angeles River:

a. Restore riparian and aquatic habitat within the 32-mile reach of the Los Angeles River within the City of Los Angeles, where feasible.

b. Support the restoration of more natural hydrologic processes within significant reaches of the study area.

c. Support the restoration of habitat in reaches contiguous to existing habitat corridors where connectivity can be reestablished. (Note: These existing habitat corridors will be specifically identified in later iterations of planning objectives.)

d. Support the modification of hydrology and stream hydraulics to maximize infiltration and inflow, decrease peak discharges, and identify storage where available.

e. Provide recreation where appropriate along the 32-mile river corridor.

The Los Angeles River Ecosystem Restoration Study is being conducted in a watershed context. While not a watershed study, this Feasibility Study is attempting to identify opportunities to engage in collaborative efforts with others who are addressing ecosystem restoration and other related water resources needs within the watershed. Planning objectives that could be affected by collaborative efforts within the watershed include:

a. Identify opportunities to store or redirect flood waters within the watershed to reduce water surface elevations and support the reestablishment of baseflow within the mainstem;

b. Identify opportunities to reestablish riparian corridors on tributary streams and to link sites to mainstem restoration sites;

c. Identify areas for open space and recreation;

d. Identify opportunities for groundwater recharge;

e. Identify opportunities for water quality treatment/enhancement of mainstem inflows.

4. Planning Constraints. Consistent with these planning objectives, the Los Angeles River Ecosystem Restoration Study will be formulated in recognition of a variety of planning constraints, which include:

a. Restoration alternatives cannot degrade the existing Corps flood risk management project.

b. Velocity reductions in the main river channel must be offset with measures that will provide additional flood storage capacity or the means to reduce flood flows to a level that will allow for riparian and/or aquatic restoration.

c. The highly urbanized nature of the floodplain, competing land uses, and Corps policies limiting land acquisition costs (as a percentage of total project costs) will constrain the opportunities for acquisition of additional lands for floodplain restoration. Potential restoration locations will need to be identified opportunistically, based in large part on the availability of lands and the ability to acquire significantly sized parcels of floodplain lands.

d. Existing infrastructure (roads, highways, utilities) adjacent to the waterway limits the physical extent of restoration activities.

e. Potential restoration sites with unresolved hazardous, toxic and radioactive waste (HTRW) problems would be avoided.

f. Public safety is primary concern for persons living adjacent to the Los Angeles River.

g. Avoid conflicts with other legitimate uses of re-developable floodplain lands (e.g., active recreation).

Based on the objectives and constraints, the FS/EIS/EIR would evaluate potential alternatives, including the proposed action and the no action alternative, and associated impacts for environmental resources (beneficial and adverse) on the environment along the 32-mile river corridor.

5. Alternatives. The FS/EIS/EIR will consider a range of viable alternatives and their impacts, including the No Action Alternative. The range of viable alternatives may include a locally preferred alternative or features that are improvements or measures desired by the project non-Federal sponsor (City of Los Angeles) that is not part of the Federal project. The Scoping will be an early and open process designed to determine the issues and alternatives to be addressed in the Report. Four initial sites within the general study area have been identified by the City and Corps:

• Portions of the Los Angeles State Historic Park.

• Glendale Narrows/Taylor Yard Reach.

• Sepulveda Basin.

• Reseda Park.

These initial sites appear to have the greatest likelihood at this time to be readily-implementable, where alternative plans could be developed and implemented to meet the study's purposes. Additional sites may be identified during the scoping process and development of the draft FS/EIS/EIR. A range of alternatives will be developed for the sites identified and may include (but not be limited to) the following features or measures as applicable for each site:

• Water Storage.

• Widen Channel.

• Offline Channel.

• Create Pervious Surfaces in Watersheds.

• Tributary Reconfiguration/Restoration.

• Remove Concrete.

• Reconfigure Concrete.

• Connect Riparian Corridors to Existing Corridors.

• Create Riparian Corridors to Woodlands.

• Daylight Outfalls.

• In-channel Vegetation.

• Habitat Wetlands.

• Water Treatment Wetlands.

• Bio-engineering Channel Walls.

• Real Estate Acquisition (non-structural measure).

• Local Water Conservation Program.

• Community Education Programs.

• Establish Community Programs.

• Habitat Management Plan.

6. Content of the Report. The FS/EIS/EIR will identify the anticipated effects of the project alternatives (negative and beneficial) and describe and analyze direct, indirect, and cumulative potential environmental impacts of the project alternatives, including the No Action Alternative, in accordance with NEPA (40CFR1500-1508) and CEQA. For each issue listed below, the FS/EIS/EIR will include a discussion of the parameters used in evaluating the impacts as well as recommended mitigation, indicating the effectiveness of mitigation measures proposed to be implemented and what, if any, additional measures would be required to reduce the impacts to a less-than-significant level. The list of issues presented below is preliminary both in scope and number. These issues are presented to facilitate public comment on the scope of the FS/EIS/EIR, and are not intended to be all-inclusive or to be a predetermination of impact topics to be considered.

Biological Resources. The Report will address the following issues and potential detrimental and beneficial effects related to biological resources:

• Increased habitat for all organisms that use multiple wetland and/or aquatic habitats, including birds, mammals, and fish;

• Improved habitat connectivity within the riparian habitat and adjacent upland habitats;

• Effects on habitat potentially supporting populations of endangered species and other species of concern;

• Shifts in geographic distribution of populations and effects on population sizes of migratory waterfowl and shorebirds;

• Effects of flood control structures on existing ecosystem attributes and functions including aquatic and terrestrial species; and

• Effects of public access and recreation on aquatic and terrestrial species.

Hydrology and Flood Protection. The FS/EIS/EIR will address the following issues and potential detrimental and beneficial effects related to hydrology and flood protection:

• Existing and future without-project flood hazards;

• Changes in channel geometry and characteristics as a result of ecosystem restoration alternative measures; and

• Effects on flood flow conveyance as a result of ecosystem restoration alternative measures.

Water Quality. The Report will address the following issues and potential detrimental and beneficial effects related to water quality:

• Engineering design and techniques to improve water quality in segments and throughout the project area;

• Effects of proposed ecosystem restoration alternative measures on base flow water quality.

Recreation and Public Access. The Report will address the effects of ecosystem restoration alternative measures on existing recreation facilities and their use as well as the potential effects of ecosystem restoration measures on planned or new facilities. The benefits and impacts of increased or decreased public access on biological resources and achievement of other project objectives will also be addressed.

Economics. The Report will evaluate the economic effects of the alternatives, including a cost effectiveness and incremental cost analysis of proposed restoration features, and a benefit-cost analysis of any flood control or recreation features.

Cumulative Impacts. The Report will examine the cumulative impacts of past, ongoing, and reasonably foreseeable future projects affecting the Los Angeles River riparian corridor, as well as effects on adjacent urban and rural lands and communities.

7. Environmental Analysis Process. The FS/EIS/EIR will be prepared in compliance with NEPA and Council on Environmental Quality Regulations, contained in 40 CFR parts 1500 -1508; and with CEQA, Public Resources Code Sec 21000 et seq., and the State and City CEQA Guidelines as amended. The Corps will be the Lead Agency for the NEPA process and the City of Los Angeles will be the Lead Agency for the CEQA process. In accordance with both CEQA and NEPA, these Lead Agencies are responsible for the scope, content, and legal adequacy of the document.

The scoping process will include the opportunity for public input through written comments submitted during the 30-day scoping period. A public scoping meeting will also be held to solicit comments on the environmental effects of the range of potential actions and the appropriate scope of the FS/EIS/EIR.

The draft FS/EIS/EIR will incorporate public concerns associated with the project alternatives identified in the scoping process and will be distributed for at least a 45-day public review and comment period. During this time, both written and verbal comments will be solicited on the adequacy of the document. The final FS/EIS/EIR will address the comments received on the draft during public review and will be made available to all commenters on the draft Report. Copies of the draft and final reports will be posted on the Internet as part of the public review process.

The final step in the Federal EIS process is the preparation of a Record of Decision (ROD), a concise summary of the decisions made by the Corps. The ROD will identify the alternative selected and other alternatives that were considered. It also will discuss the mitigation measures that were adopted. The ROD may be published no earlier than 30 days after publication of the Notice of Availability of the final EIS. The final step in the State EIR process is certification of the EIR, which includes preparation of a Mitigation Monitoring and Reporting Plan and adoption of its findings, should the project be approved.

8. Scoping Process. Participation of affected Federal, State and local resource agencies, Native American groups and concerned interest groups/individuals is encouraged in the scoping process. Public participation is important in defining the scope of analysis in the FS/EIS/EIR, identifying significant environmental issues and impact analysis in the FS/EIS/EIR and providing useful information such as published and unpublished data and personal knowledge of relevant issues.

The Corps and City of Los Angeles conducted a public scoping meeting on April 18, 2007 for both the Feasibility Study and the LARRMP PEIR/PEIS (2007). Public input and comments received during the scoping meeting as well as other comments received during public outreach efforts associated with the LARRMP will be considered during preparation of the FS/EIS/EIR.

A second public scoping meeting will be held on December 4, 2008, from 7—8:30 p.m. at the Metropolitan Water District, 700 North Alameda Street, Los Angeles, CA 90012, to solicit additional comments on the environmental effects of the range of potential actions and the appropriate scope of the FS/EIS/EIR. The public is invited to comment on environmental issues to be addressed in the FS/EIS/EIR during this meeting. Public input and comments received during the scoping meeting will be considered during preparation of the FS/EIS/EIR.

Those interested in providing written comments, information, or data relevant to the environmental or social impacts that should be included or considered in the environmental analysis can furnish this information by writing to the point of contact (see ADDRESSES). Requests to be placed on the mailing list for announcements and the Draft FS/EIS/EIR also should be sent to Ms. Bostwick (see ADDRESSES).

Dated: November 13, 2008.
Anthony G. Reed,
Lieutenant Colonel, U.S. Army, Acting District Commander.

[FR Doc. E8-28275 Filed 11-26-08; 8:45 am]

BILLING CODE 3720-58-P